DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, Research Infrastructure for Centers Conducting Population Dynamics Science FY2019 (P2C), October 28, 2019, 08:00 a.m. to October 29, 2019, 05:00 p.m., Residence Inn Bethesda, which was published in the Federal Register on February 28, 2019, 84 FR 6808.

The date for this meeting has changed from October 28, 2019, 08:00 a.m. to October 29, 2019, 05:00 p.m., Residence Inn Bethesda to October 28, 2019, 08:00 a.m. to October 28, 2019, 05:00 p.m., Residence Inn Bethesda. The meeting is closed to the public.

Dated: September 12, 2019.
Ronald J. Livingston, Jr.,
Program Analyst, Office of Federal Advisory Committee Policy.

[FR Doc. 2019-20120 Filed 9-17-19; 8:45 am]

BILLING CODE 4140-01-P